DEPARTMENT OF STATE

[Public Notice 4663]

Advisory Committee on Labor Diplomacy; Notice of Cancellation of Meeting

The Advisory Committee on Labor Diplomacy (ACLD) has cancelled its meeting scheduled for Monday, April 26, 2004 at 9 a.m. in room 1107, U.S. Department of State, 2201 C Street, NW., Washington, DC 20520. The meeting has been postponed until further notice.

Dated: April 21, 2004.
Robert Hogan,
Director, Bureau of Democracy, Human Rights and Labor, Department of State.

[FR Doc. 04-9528 Filed 4-23-04; 8:45 am]

BILLING CODE 4710-18-P